FEDERAL COMMUNICATIONS COMMISSION

47 CFR Part 12

[PS Docket No. 14-174, FCC 15-98]

Ensuring Continuity of 911 Communications

AGENCY: Federal Communications Commission.

ACTION: Final rule; correction of announcement of compliance date.

SUMMARY: The Federal Communications Commission published in the Federal Register of April 7, 2016, an announcement that the Office of Management and Budget (OMB) has approved, for a period of three years, the information collection associated with the Commission's Ensuring Continuity of 911 Communications Report and Order's (Order) consumer disclosure requirement. We inadvertently announced the wrong compliance date for providers with fewer than 100,000 domestic retail subscriber lines as April 1, 2017. This document changes the date to February 1, 2017.

DATES: Effective June 2, 2016 the compliance date for the rule published April 7, 2016 (81 FR 20258) is corrected from April 1, 2017 to February 1, 2017.

FOR FURTHER INFORMATION CONTACT: Linda M. Pintro, Policy and Licensing Division, Public Safety and Homeland Security Bureau, at (202) 418-7490, or email: linda.pintro@fcc.gov.

SUPPLEMENTARY INFORMATION: The FCC published a document in the Federal Register of April 7, 2016, (81 FR 20258) announcing that, on March 21, 2016, OMB approved, for a period of three years, the information collection requirements relating to the subscriber notification rules contained in the Commission's Order, FCC 15-98, published at 80 FR 62470, October 16, 2015. The OMB Control Number is 3060-1217. The Commission published this document as an announcement of the effective date of the rules. This document inadvertently announced the compliance date for providers with fewer than 100,000 domestic retail subscriber lines as April 1, 2017. This correction replaces this compliance date with February 1, 2017.

Federal Communications Commission.
Marlene H. Dortch,
Secretary.

[FR Doc. 2016-12946 Filed 6-1-16; 8:45 am]

BILLING CODE 6712-01-P